DEPARTMENT OF HOMELAND SECURITY

Federal Emergency Management Agency

44 CFR Part 65

[Docket ID FEMA-2013-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below of the modified BFEs for each community listed. These modified BFEs have been published in newspapers of local circulation and ninety (90) days have elapsed since that publication. The Deputy Associate Administrator for Mitigation has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Connecticut: Hartford (FEMA Docket No.: B-1209) | City of Hartford (10-01-1797P) | February 16, 2011; February 23, 2011; The Hartford Courant | The Honorable Pedro E. Segarra, Mayor, City of Hartford, 550 Main Street, 2nd Floor, Room 200, Hartford, CT 06103 | June 23, 2011 | 095080
Illinois:
Adams (FEMA Docket No.: B-1209) | City of Quincy (11-05-0757P) | February 7, 2011; February 14, 2011; The Quincy Herald-Whig | The Honorable John A. Spring, Mayor, City of Quincy, City Hall, 730 Maine Street, Quincy, IL 62301 | June 15, 2011 | 170003
Adams (FEMA Docket No.: B-1209) | Unincorporated areas of Adams County (11-05-0757P) | February 7, 2011; February 14, 2011; The Quincy Herald-Whig | The Honorable Mike Mclaughlin, Chairman, Adams County Board, Adams County Courthouse, 507 Vermont Street, Quincy, IL 62301 | June 15, 2011 | 170001
Kansas: Rice (FEMA Docket No.: B-1209) | City of Sterling (11-07-0838P) | April 14, 2011; April 21, 2011; The Sterling Kansas Bulletin | The Honorable Todd Rowland, Mayor, City of Sterling, 114 North Broadway, P.O. Box 287, Sterling, KS 67579 | August 19, 2011 | 200297
Massachusetts: Essex (FEMA Docket No.: B-1209) | City of Salem (10-01-0551P) | February 10, 2011; February 17, 2011; The Salem Evening News | The Honorable Kimberley Driscoll, Mayor, City of Salem, City Hall, 93 Washington Street, Salem, MA 01970 | January 26, 2011 | 250102
Missouri:
Greene (FEMA Docket No.: B-1209) | City of Springfield (10-07-2268P) | April 7, 2011; April 14, 2011; The Springfield News Leader | The Honorable James O'Neal, Mayor, City of Springfield, P.O. Box 8368, 840 Boonville Avenue, Springfield, MO 65801 | August 12, 2011 | 290149
Cass (FEMA Docket No.:, B-1209) | City of Harrisonville (10-07-2115P) | April 15, 2011; April 22, 2011; The Cass County Democrat Missourian | The Honorable Kevin Wood, Mayor, City of Harrisonville, 300 East Pearl Street, P.O. Box 367, Harrisonville, MO 64701 | August 22, 2011 | 290068
Nebraska: Lancaster (FEMA Docket No.: B-1209) | City of Lincoln (11-07-1426P) | April 14, 2011; April 21, 2011; The Lincoln Journal Star | The Honorable Chris Beutler, Mayor, City of Lincoln, 555 South 10th Street, Suite 301, Lincoln, NE 68508 | March 30, 2011 | 315273
Ohio:
Franklin (FEMA Docket No.: B-1209) | Unincorporated areas of Franklin County (11-05-3271P) | May 16, 2011; May 23, 2011; The Daily Reporter | Ms. Marilyn Brown, President, Franklin County, 373 South High Street, 26th Floor, Columbus, OH 43215 | May 2, 2011 | 390167
Franklin (FEMA Docket No.: B-1209) | City of Columbus (11-05-3271P) | May 16, 2011; May 23, 2011; The Daily Reporter | The Honorable Michael B. Coleman, Mayor, City of Columbus, 90 West Board Street, City Hall, 2nd Floor, Columbus, OH 43215 | May 2, 2011 | 390170
Montgomery (FEMA Docket No.: B-1209) | City of Kettering (10-05-4843P) | February 10, 2011; February 17, 2011; The Dayton Daily News | The Honorable Don Patterson, Mayor, City of Kettering, 3600 Shroyer Road, Kettering, OH 45429 | June 17, 2011 | 390412
Butler (FEMA Docket No.: B-1209) | City of Monroe (11-05-2538P) | March 10, 2011; March 17, 2011; The Middleton Journal | The Honorable Robert E. Routson, Mayor, City of Monroe, 233 South Main Street, P.O. Box 330, Monroe, OH 45050 | March 1, 2011 | 390042
Warren (FEMA Docket No.: B-1209) | Unincorporated areas of Warren County (11-05-2538P) | March 10, 2011; March 17, 2011; The Middleton Journal | Mr. David G. Young, Warren County Commissioner, 1st Floor, 406 Justice Drive, Lebanon, OH 45036 | March 1, 2011 | 390757
Washington:
Pierce (FEMA Docket No.: B-1209) | City of Sumner (10-10-0620P) | April 11, 2011; April 18, 2011; The News Tribune | The Honorable Dave Enslow, Mayor, City of Sumner, Sumner City Hall, 1104 Maple Street, Sumner, WA 98390 | August 16, 2011 | 530147
King (FEMA Docket No.: B-1209) | Unincorporated areas of King County (10-10-0977P) | May 5, 2011; May 12, 2011; The Seattle Times | Mr. Dow Constantine, King County Executive, 401 5th Avenue, Suite 800, Seattle, WA 98104 | April 25, 2011 | 530071
King (FEMA Docket No.: B-1209) | City of Burien (10-10-0977P) | May 5, 2011; May 12, 2011; The Seattle Times | The Honorable Joan McGilton, Mayor, City of Burien, 400 Southwest 152nd Street, Suite 300, Burien, WA 98166 | April 25, 2011 | 530321
Wisconsin:
Dane (FEMA Docket No.: B-1209) | Unincorporated areas of Dane County (10-05-5471P) | March 3, 2011; March 10, 2011; The News Sickle Arrow | Ms. Kathleen Falk, Dane County Executive, County Building, Room 421, 210 Martin Luther King Jr. Boulevard, Madison, WI 53703 | July 8, 2011 | 550077
Dane (FEMA Docket No.: B-1209) | Village of Cross Plains (10-05-5471P) | March 3, 2011; March 10, 2011; The News Sickle Arrow | Mr. Mike Schutz, President, Village of Cross Plains, 2417 Brewery Road, Cross Plains, WI 53528 | July 8, 2011 | 550081
Brown (FEMA Docket No.: B-1209) | Village of Pulaski (10-05-6098P) | February 24, 2011; March 3, 2011; The Greenbay Press Gazette | Mr. Keith Chambers, Village President, 421 South Saint Augustine Street, Pulaski, WI 54162 | July 5, 2011 | 550024
Brown (FEMA Docket No.: B-1209) | Unincorporated areas of Brown County (10-05-6098P) | February 24, 2011; March 3, 2011; The Greenbay Press Gazette | The Honorable Guy Zima, Chairman, Brown County Board, 305 East Walnut Street, Green Bay, WI 54301 | July 5, 2011 | 550020
Fond du Lac (FEMA Docket No.: B-1209) | Village of Rosendale (10-05-4703P) | May 16, 2011; May 23, 2011; The Reporter | Mr. James Westphal, President, Village of Rosendale, 221 North Grant Street, Rosendale, WI 54974 | September 20, 2011 | 550141
Fond du Lac (FEMA Docket No.: B-1209) | Unincorporated areas of Fond du Lac County (10-05-4703P) | May 16, 2011; May 23, 2011; The Reporter | Mr. Allen J. Buechel, Fond du Lac County Executive, 160 South Macy Street, Fond du Lac, WI 54935 | September 20, 2011 | 550131
Sauk (FEMA Docket No.: B-1209) | Village of Lake Delton (10-05-6994P) | March 30, 2011; April 6, 2011; The Wisconsin Dells Event | Mr. John Webb, President, Village of Lake Dalton, 50 Wisconsin Dells Parkway South, Post Office Box 87, Lake Delton, WI 53940 | August 4, 2011 | 550394
Milwaukee (FEMA Docket No.: B-1209) | City of Greenfield (11-05-1089P) | April 14, 2011; April 21, 2011; The Greenfield Now | The Honorable Michael J. Neitzke, Mayor, City of Greenfield, 7325 West Forest Home Avenue, Greenfield, WI 53220 | March 31, 2011 | 550277
Illinois:
Will (FEMA Docket No.: B-1211) | Unincorporated areas of Will County (11-05-1594X) | June 23, 2011; June 30, 2011; The Mokena Messenger | Mr. Lawrence M. Walsh, Will County Executive, 302 North Chicago Street, Joliet, IL 60432 | October 28, 2011 | 170695
Will (FEMA Docket No.: B-1211) | Village of Mokena (11-05-1594X) | June 23, 2011; June 30, 2011; The Mokena Messenger | The Honorable Joseph W. Werner, Mayor, Village of Mokena, 11004 Carpenter Street, Mokena, IL 60448 | October 28, 2011 | 170705
Kansas:
Johnson (FEMA Docket No.: B-1211) | City of Lenexa (11-07-1137P) | June 1, 2011; June 8, 2011; The Shawnee Dispatch | The Honorable Michael Boehm, Mayor, City of Lenexa, P.O. Box 14888, Lenexa, KS 66285 | October 06, 2011 | 200168
Johnson (FEMA Docket No.: B-1211) | City of Shawnee (11-07-1137P) | June 1, 2011; June 8, 2011; The Shawnee Dispatch | The Honorable Jeff Meyers, Mayor, City of Shawnee, 11110 Johnson Drive, Shawnee, KS 66203 | October 06, 2011 | 200177
Michigan:
Macomb (FEMA Docket No.: B-1211) | City of St. Clair Shores (11-05-5445P) | July 6, 2011; July 13, 2011; The St. Clair Shores Sentinel | The Honorable Robert A. Hison, Mayor, City of St. Clair Shores, 27600 Jefferson Circle Drive, St. Clair Shores, MI 48081 | June 22, 2011 | 260127
Shiawassee (FEMA Docket No.: B-1211) | Charter Township of Owosso (11-05-0616P) | June 3, 2011; June 10, 2011; The Argus Press | Mr. Danny C. Miller, Supervisor, Owosso Charter Township, 2998 West M-21, P.O. Box 400, Owosso, MI 48867 | October 11, 2011 | 260809
Shiawassee (FEMA Docket No.: B-1211) | City of Owosso (11-05-0616P) | June 3, 2011; June 10, 2011; The Argus Press | The Honorable Benjamin Frederick, Mayor, City of Owosso, 301 West Main Street, Owosso, MI 48867 | October 11, 2011 | 260596
Ohio:
Clinton (FEMA Docket No.: B-1211) | Unincorporated areas of Clinton County (10-05-7060P) | June 2, 2011; June 9, 2011; The Wilmington News Journal | Mr. Randy Riley, Clinton County Commissioners Board Member, 46 South Street, 2nd Floor Courthouse, Wilmington, OH 45177 | October 07, 2011 | 390764
Clinton (FEMA Docket No.: B-1211) | Village of Sabina (10-05-7060P) | June 2, 2011; June 9, 2011; The Wilmington News Journal | The Honorable Dean Carnahan, Mayor, Village of Sabina, 99 North Howard Street, Sabina, OH 45169 | October 07, 2011 | 390627
Lake (FEMA Docket No.: B-1211) | Unincorporated areas of Lake County (10-05-5769P) | June 14, 2011; June 21, 2011; The News Herald | Mr. Raymond E. Sines, President, Lake County Board of Commissioners, 105 Main Street, Painesville, OH 44077 | July 01, 2011 | 390771
Oregon: | Linn (FEMA Docket No.: B-1211) | City of Millersburg (11-10-0824P) | June 6, 2011; June 13, 2011; The Democrat Herald | The Honorable Clayton Wood, Mayor, City of Millersburg, 4222 Northeast Old Salem Road, Albany, OR 97321 | October 12, 2011 | 410284
Wisconsin:
Brown (FEMA Docket No.: B-1211) | Unincorporated areas of Brown County (11-05-4502P) | June 28, 2011; July 5, 2011; The Green Bay Press Gazette | The Honorable Guy Zima, Chairman, Brown County Board, 305 East Walnut Street, Green Bay, WI 54301 | November 02, 2011 | 550020
Portage (FEMA Docket No.: B-1211) | City of Stevens Point (10-05-7569P) | July 15, 2011; July 22, 2011; The Portage County Gazette | The Honorable Andrew Halverson, Mayor, City of Stevens Point, 1515 Strongs Avenue, Steven Point, WI 54481 | October 31, 2011 | 550342
Iowa: Linn (FEMA Docket No.: B-1219) | City of Marion (11-07-1284P) | August 11, 2011; August 18, 2011; The Marion Times | The Honorable Paul Rehn, Mayor, City of Marion, 2710 25th Avenue, Marion, IA 52302 | December 16, 2011 | 190191
Idaho: Teton (FEMA Docket No.: B-1219) | Unincorporated areas of Teton County (11-10-0678P) | August 11, 2011; August 18, 2011; The Teton Valley News | The Honorable Kathryn Rinaldi, Chairman, Teton County Board of Commissioners, Teton County Courthouse, 150 Courthouse Drive, Driggs, ID 83422 | September 1, 2011 | 160230
Ohio:
Lake (FEMA Docket No.: B-1219) | Unincorporated areas of Lake County (11-05-2150P) | August 11, 2011; August 18, 2011; The News-Herald | Mr. Raymond E. Sines, President, Lake County Ohio Board, 105 Main Street, Painesville, OH 44077 | December 16, 2011 | 390771
Warren (FEMA Docket No.: B-1219) | City of Mason (11-05-2541P) | August 11, 2011; August 18, 2011; The Pulse Journal | The Honorable Don Prince, Mayor, City of Mason, 6000 Mason Montgomery Road, Mason, OH 45040 | December 16, 2011 | 390559
Warren (FEMA Docket No.: B-1219) | Unincorporated areas of Warren County (11-05-2541P) | August 11, 2011; August 18, 2011; The Pulse Journal | Mr. David G. Young, Warren County Commissioner, First Floor, 406 Justice Drive, Lebanon, OH 45036 | December 16, 2011 | 390757
Rhode Island: Washington (FEMA Docket No.: B-1219) | Town of North Kingstown (11-01-1012P) | August 11, 2011; August 18, 2011; The Standard Times | Mr. Michael Embury, Town of North Kingstown Manager, 80 Boston Neck Road, North Kingstown, RI 02852 | July 26, 2011 | 445404
Arizona: Maricopa (FEMA Docket No.: B-1234) | City of Chandler (11-09-2364P) | September 1, 2011; September 8, 2011; The Arizona Republic | The Honorable Jay Tibshraeny, Mayor, City of Chandler, 175 South Arizona Avenue, 5th Floor, Chandler, AZ 85225 | September 18, 2011 | 040040
Kansas:
Johnson (FEMA Docket No.: B-1234) | City of Roeland Park (11-07-1190P) | October 4, 2011; October 11, 2011; The Legal Record | The Honorable Adrienne Foster, Mayor, City of Roeland Park, City Hall, 4600 West 51st Street, Roeland Park, KS 66205 | February 8, 2012 | 200176
Johnson (FEMA Docket No.: B-1234) | City of Fairway (11-07-1190P) | October 4, 2011; October 11, 2011; The Legal Record | The Honorable Jerry Wiley, Mayor, City of Fairway, 4210 Shawnee Mission Parkway, Suite 100, Fairway, KS 66205 | February 8, 2012 | 205185
Johnson (FEMA Docket No.: B-1234) | City of Mission (11-07-1190P) | October 4, 2011; October 11, 2011; The Legal Record | The Honorable Laura McConwell, Mayor, City of Mission, City Hall, 6090 Woodson Road, Mission, KS 66202 | February 8, 2012 | 200170
Idaho: Bonneville (FEMA Docket No.: B-1234) | Unincorporated areas of Bonneville County (11-10-1238P) | August 30, 2011; September 6, 2011; The Post Register | Mr. Roger Christensen, Bonneville County Commissioner, 605 North Capital Avenue, Idaho Falls, ID 83402 | August 17, 2011 | 160027
Indiana:
Marion (FEMA Docket No.: B-1234) | City of Beech Grove (11-05-6197P) | October 6, 2011; October 13, 2011; The Indianapolis Star | The Honorable Terry Dilk, Mayor, City of Beech Grove, 806 Main Street, Beech Grove, IN 46107 | February 10, 2012 | 180158
Lake (FEMA Docket No.: B-1234) | City of Hammond (11-05-0942P) | September 9, 2011; September 16, 2011; The Northwest Indiana Times | The Honorable Thomas M. McDermott, Jr., Mayor, City of Hammond, 5925 Calumet Avenue, Hammond, IN 46320 | August 26, 2011 | 180134
Lake (FEMA Docket No.: B-1234) | Town of Highland (11-05-0942P) | September 9, 2011; September 16, 2011; The Northwest Indiana Times | Mr. Brian Novak, President, Town of Highland, 3333 Ridge Road, Highland, IN 46322 | August 26, 2011 | 185176
Lake (FEMA Docket No.: B-1234) | Town of Munster (11-05-0942P) | September 9, 2011; September 16, 2011; The Northwest Indiana Times | Mr. Thomas DeGiulio, Town of Munster Manager, 1005 Ridge Road, Munster, IN 46321 | August 26, 2011 | 180139
Massachusetts: Plymouth (FEMA Docket No.: B-1234) | Town of Hingham (11-01-0786P) | September 22, 2011; September 29, 2011; The Hingham Journal | Mr. John A. Riley, Town of Hingham Board of Selectmen, Town Hall, 210 Central Street, Hingham, MA 02043 | September 7, 2011 | 250268
Maine:
Cumberland (FEMA Docket No.: B-1234) | City of Portland (11-01-1058P) | October 11, 2011; October 18, 2011; The Portland Press Herald | The Honorable Nicholas Mavodones, Jr., Mayor, City of Portland, 389 Congress Street, Portland, ME 04101 | September 27, 2011 | 230051
York (FEMA Docket No.: B-1234) | Town of Kittery (10-01-2103P) | September 27, 2011; October 4, 2011; The Portsmouth Herald | Mr. Jonathan Carter, Town of Kittery Manager, 200 Rogers Road Extention, Kittery, ME 03904 | December 26, 2011 | 230171
Ohio:
Franklin (FEMA Docket No.: B-1234) | Unincorporated areas of Franklin County (11-05-2052P) | September 7, 2011; September 14, 2011; The Daily Reporter | The Honorable Marilyn Brown, President, Franklin County Board of Commissioners, 373 South High Street, 26th Floor, Columbus, OH 43215 | January 12, 2012 | 390167
Franklin (FEMA Docket No.: B-1234) | City of Grove City (11-05-2052P) | September 7, 2011; September 14, 2011; The Daily Reporter | The Honorable Richard L. Stage, Mayor, City of Grove City, 4035 Broadway, Grove City, OH 43123 | January 12, 2012 | 390173
Trumbull (FEMA Docket No.: B-1234) | Unincorporated areas of Trumbull County (11-05-6118P) | August 11, 2011; August 18, 2011; The Tribune Chronicle | The Honorable Daniel E. Polivka, President, Trumbull County Commissioners, 160 High Street Northwest, Warren, OH 44481 | July 29, 2011 | 390535
Trumbull (FEMA Docket No.: B-1234) | Village of Lordstown (11-05-6118P) | August 11, 2011; August 18, 2011; The Tribune Chronicle | The Honorable Michael Chaffee, Mayor, Village of Lordstown, 1455 Salt Springs Road, Lordstown, OH 44481 | July 29, 2011 | 390812
Pennsylvania: Chester (FEMA Docket No.: B-1234) | Town of Caln (11-03-0270P) | August 26, 2011; September 2, 2011; The Daily Local News | The Honorable William Chambers, President, Township of Caln, 253 Municipal Drive, Thorndale, PA 19372 | January 3, 2012 | 422247
Wisconsin: Brown (FEMA Docket No.: B-1234) | Unincorporated areas of Brown County (11-05-2704P) | September 15, 2011; September 22, 2011; The Greenbay Press Gazette | The Honorable Guy Zima, Chairman, Brown County Board, 305 East Walnut Street, Green Bay, WI 54301 | January 20, 2012 | 550020
Connecticut: Hartford (FEMA Docket No.: B-1248) | Town of West Hartford (10-01-2143P) | October 13, 2011; October 20, 2011; The Hartford Courant | The Honorable Scott Slifka, Mayor, Town of West Hartford, 50 South Main Street, West Hartford, CT 06107 | October 3, 2011 | 095082
Iowa: Story (FEMA Docket No.: B-1248) | City of Ames (11-07-1005P) | October 27, 2011; November 3, 2011; The Ames Tribune | The Honorable Ann Campbell, Mayor, City of Ames, PO Box 811, 515 Clark Avenue, Ames, IA 50010 | March 2, 2012 | 190254
Idaho:
Shoshone (FEMA Docket No.: B-1248) | City of Osburn (11-10-1374P) | October 27, 2011; November 3, 2011; The Shoshone News Press | The Honorable Robert McPhail, Mayor, City of Osburn, 921 East Mullan Avenue, Osburn, ID 83849 | March 2, 2012 | 160116
Shoshone (FEMA Docket No.: B-1248) | Unincorporated areas of Shoshone County (11-10-1374P) | October 27, 2011; November 3, 2011; The Shoshone News Press | Mr. Jon Cantamessa, Shoshone County Commissioner, District 3, 700 Bank Street, Suite 120, Wallace, ID 83873 | March 2, 2012 | 160114
Illinois:
Grundy (FEMA Docket No.: B-1248) | Unincorporated areas of Grundy County (11-05-8349P) | October 26, 2011; November 2, 2011; The Paper | Mr. Ron Severson, Grundy County, Chairman of the Board, 1320 Union Street, Morris, IL 60450 | November 10, 2011 | 170256
Grundy and Livingston (FEMA Docket No.: B-1248) | Village of Dwight (11-05-8349P) | October 26, 2011; November 2, 2011; The Paper | Mr. Bill Wilkey, Village of Dwight President, 209 South Prairie Avenue, Dwight, IL 60420 | November 10, 2011 | 170423
Oregon: Deschutes (FEMA Docket No.: B-1248) | Unincorporated areas of Deschutes County (11-10-1524P) | November 29, 2011; December 6, 2011; The Bend Bulletin | Mr. Erik Kropp, Interim Deschutes County Administrator, 1300 Northwest Wall Street, 2nd Floor, Bend, OR 97701 | April 4, 2012 | 410055
Washington: King County (FEMA Docket No.: B-1248) | City of Burien (11-10-0033P) | October 28, 2011; November 4, 2011; The Highline Times | The Honorable Joan McGilton, Mayor, City of Burien, 400 Southwest 152nd Street, Suite 300, Burien, WA 98166 | November 4, 2011 | 530321
Wisconsin:
Manitowoc (FEMA Docket No.: B-1248) | Unincorporated areas of Manitowoc County (11-05-7812P) | November 7, 2011; November 14, 2011; The Herald Times Reporter | Mr. Bob Ziegelbauer, Manitowoc County Executive, Manitowoc County Courthouse, 1010 South 8th Street, Manitowoc, WI 54220 | October 28, 2011 | 550236
Calumet (FEMA Docket No.: B-1248) | City of Brillion (11-05-3616P) | October 27, 2011; November 3, 2011; The Zander Press | The Honorable Gary Deiter, Mayor, City of Brillion, 225 Apollo Court, Brillion, WI 54110 | March 2, 2012 | 550036
Calumet (FEMA Docket No.: B-1248) | Unincorporated areas of Calumet County (11-05-3616P) | October 27, 2011; November 3, 2011; The Zander Press | Mr. Jay Shambeau, Calumet County Administrator, 206 Court Street, Chilton, WI 53014 | March 2, 2012 | 550035

(Catalog of Federal Domestic Assistance No. 97.022, “Flood Insurance.”)

Date: July 26, 2013.
Roy E. Wright,
Deputy Associate Administrator for Mitigation, Department of Homeland Security, Federal Emergency Management Agency.

[FR Doc. 2013-19594 Filed 8-12-13; 8:45 am]

BILLING CODE 9110-12-P